Proclamation 10544 of March 31, 2023

National Donate Life Month, 2023

By the President of the United States of America

A Proclamation

More than 400,000 Americans in every corner of our country are alive today thanks to the tremendous generosity and courage of organ donors. During National Donate Life Month, we honor donors and their families who have turned pain into purpose by sharing the gift of life with loved ones in need or countless others whom they have never met. We encourage everyone to follow their lead and register as an organ, eye, tissue, or bone marrow donor, bringing hope and healing to so many others.

Last year, American doctors completed our Nation's one-millionth organ transplant, a tremendous milestone in the history of a procedure pioneered and honed in America. We are now performing transplants at a record pace, with higher success rates and increased lifespans for recipients. Still, every 10 minutes, someone new joins the waiting list—fighting organ failure or blood cancer, their futures hanging in the balance. More than 100,000 people, including 1,900 children, are currently on the waiting list. A majority of them are people of color, for whom it can sometimes be more difficult to find a good donor match. Seventeen Americans die every day while waiting for a transplant.

We each have the power to change that. Just one person can save up to 8 lives through organ donation after they die and improve another 75 lives through eye and tissue donation. Registering as a donor does not change the quality of care that you receive in your lifetime. It allows you to give countless others a second chance at life and your family to find peace amid grief while leaving an extraordinary legacy of compassion and dignity.

Each year, thousands of Americans choose to donate an organ while still living, a profoundly courageous act of connection and healing.

My Administration is working across the board to support organ donation and to make sure living donors and recipients have the affordable health care and prescription drug coverage they need before and after a transplant and throughout their lives. We have acted to extend Medicare coverage of vital drugs for kidney transplant patients. And just recently, we launched the Organ Procurement and Transplantation Network (OPTN) Modernization Initiative to better serve the needs of patients and families across the country. We have published data on organ donors, organ procurements, transplant waitlists, and transplant recipients. We will foster competition, working to promote the use of innovative technology and ensure the highest quality of care is provided to patients. We are committed to a modernized OPTN that is transparent, accountable, and equitable.

We have also launched the transformational Advanced Research Projects Agency for Health, securing $2.5 billion for breakthroughs in the prevention, detection, and treatment of cancer and other deadly diseases, which could one day make many transplants unnecessary.

America is a great Nation because we are a good people—generous, decent, and fair. We look out for our neighbors and lend a hand to those in need. Few things demonstrate that more than the act of becoming an organ donor. Any adult can register, regardless of age or medical history; in many States, doing so is as simple as checking a box when renewing your driver's license or signing up online. I encourage all Americans to visit organdonor.gov to learn more about organ, eye, and tissue donation or bloodstemcell.hrsa.gov for more information on donating bone marrow. We celebrate everyone who makes this deeply generous choice to give others the gift of life.

NOW, THEREFORE, I, JOSEPH R. BIDEN JR., President of the United States of America, by the authority vested in me by the Constitution and the laws of the United States, do hereby proclaim April 2023 as National Donate Life Month. I call on every person who can to share the gift of life and hope by becoming an organ, eye, tissue, or bone marrow donor. I also call on this Nation to observe National Pediatric Transplant Week from April 23 through April 29, a week dedicated to ending the pediatric transplant waiting list.

IN WITNESS WHEREOF, I have hereunto set my hand this thirty-first day of March, in the year of our Lord two thousand twenty-three, and of the Independence of the United States of America the two hundred and forty-seventh.

[FR Doc. 2023-07312

Filed 4-4-23; 11:15 am]

Billing code 3395-F3-P